DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before January 22, 2007.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Linda Belluomini, Fish and Wildlife Biologist, at the above Portland address, (telephone: 503-231-2063; fax: 503-231-6243).

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. TE-135949

Applicant: AECOS, Inc., Kaneohe, Hawaii

The applicant requests a permit to remove/reduce to possession Chamaesyce slotsbergii (akoko) in conjunction with captive propagation on Federal lands in Hawaii for the purpose of enhancing its survival.

Permit No. TE-702631

Applicant: Regional Director, Portland, Oregon

The permittee requests an amendment to take the picture-wing flies (Drosophila aglaia, Drosophila differens, Drosophila hemipeza, Drosophila heteroneura, Drosophila montgomeryi, Drosophila musaphilia, Drosophila neoclavisetae, Drosophila obatai, Drosophila ochrobasis, Drosophila substenoptera, and Drosophila tarphytrichia) in conjunction with recovery-related activities throughout the species' ranges in Hawaii for the purpose of enhancing their survival.

Permit No. TE-138572

Applicant: Harold L. Lyon Arboretum, Honolulu, Hawaii

The applicant requests a permit to remove/reduce to possession any federally endangered plants found on National Park Service lands throughout the range of each species in Hawaii in conjunction with ex situ germplasm storage and/or controlled propagation for the purpose of enhancing their survival.

Permit No. TE-041672

Applicant: U.S. Army Corps of Engineers, Lowell, Oregon

The permittee requests an amendment to remove/reduce to possession Erigeron decumbens ssp. decumbens (Willamette Valley daisy) and Lomatium bradshawii (Bradshaw's lomatium) in conjunction with population augmentation in Lane County, Oregon, for the purpose of enhancing their survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: November 17, 2006.
David J. Wesley,
Acting Regional Director, Region 1, U.S. Fish and Wildlife Service.

[FR Doc. E6-21925 Filed 12-21-06; 8:45 am]

BILLING CODE 4310-55-P